DEPARTMENT OF COMMERCE

International Trade Administration

[A-570-062]

Cast Iron Soil Pipe Fittings From People's Republic of China: Postponement of Preliminary Determination in the Less-Than-Fair-Value Investigation

AGENCY: Enforcement and Compliance, International Trade Administration, Department of Commerce.

DATES: Applicable November 27, 2017.

FOR FURTHER INFORMATION CONTACT: Sergio Balbontin at (202) 482-6478 or Michael Bowen at (202) 482-0768, AD/CVD Operations, Office VIII, Enforcement and Compliance, International Trade Administration, U.S. Department of Commerce, 1401 Constitution Avenue NW., Washington, DC 20230.

SUPPLEMENTARY INFORMATION:

Background

On August 2, 2017, the Department of Commerce (the Department) initiated a less-than-fair-value (LTFV) investigation of imports of cast iron soil pipe fittings (soil pipe fittings) from the People's Republic of China (PRC).¹ Currently, the preliminary determination is due no later than December 20, 2017.

¹ See Cast Iron Soil Pipe Fittings from the People's Republic of China: Initiation of Less-Than-Fair Value Investigation, 82 FR 37053 (August 8, 2017) (Initiation Notice).

Postponement of Preliminary Determination

Section 733(b)(1)(A) of the Tariff Act of 1930, as amended (the Act), requires the Department to issue the preliminary determination in a LTFV investigation within 140 days after the date on which the Department initiated the investigation. However, section 733(c)(1) of the Act permits the Department to postpone the preliminary determination until no later than 190 days after the date on which the Department initiated the investigation if: (A) The petitioner makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

On November 14, 2017, the Cast Iron Soil Pipe Institute ² (the petitioner) submitted a timely request that the Department postpone the preliminary determination in this LTFV investigation.³ The petitioner stated that it requests postponement because it believes that “the Department needs more time to analyze the information submitted to date.” ⁴

² The members of the Cast Iron Soil Pipe Institute are AB&I Foundry, Charlotte Pipe & Foundry, and Tyler Pipe.

³ See Letter from the petitioner, “Cast Iron Soil Pipe Fittings from the People's Republic of China: Request to Extend the Preliminary Determination,” dated November 14, 2017.

⁴ Id.

For the reason stated above, and because there are no compelling reasons to deny the request, the Department, in accordance with section 733(c)(1)(A) of the Act, is postponing the deadline for the preliminary determination by 50 days (i.e., 190 days after the date on which this investigation was initiated). As a result, the Department will issue its preliminary determination no later than February 8, 2018. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: November 20, 2017.
Gary Taverman,
Deputy Assistant Secretary for Antidumping and Countervailing Duty Operations, performing the non-exclusive functions and duties of the Assistant Secretary for Enforcement and Compliance.

[FR Doc. 2017-25536 Filed 11-24-17; 8:45 am]

BILLING CODE 3510-DS-P